DEPARTMENT OF COMMERCE

International Trade Administration

[A-475-818]

Certain Pasta From Italy: Extension of Time Limits for the Preliminary Results of Antidumping Administrative Review

AGENCY: Import Administration, International Trade Administration, Department of Commerce.

DATES: Effective Date: March 23, 2007.

FOR FURTHER INFORMATION CONTACT: Christopher Hargett at (202) 482-4161, AD/CVD Operations, Office 3, Import Administration, International Trade Administration, U.S. Department of Commerce, 14th Street and Constitution Ave, NW., Washington, DC 20230.

SUPPLEMENTARY INFORMATION

Background

At the request of interested parties, the Department of Commerce (the Department) initiated an administrative review of the antidumping duty order on certain pasta from Italy for the period July 1, 2005, through June 30, 2006. See Initiation of Antidumping and Countervailing Duty Administrative Reviews and Requests for Revocation in Part, 71 FR 51573 (August 30, 2006). The preliminary results are currently due no later than April 2, 2007.

Statutory Time Limits

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month.

Extension of Preliminary Results

The Petitioners ¹ raised a number of complex issues, including among other things, Atar S.r.L.'s status as a toll producer. In order to adequately analyze these complex issues, the Department must gather and analyze more information. We determine that it is not practicable to gather and analyze the requested data and complete the preliminary results of this review within the original time limit. Therefore, we are fully extending the time period for issuing the preliminary results of this review to 365 days until July 31, 2007. The final results continue to be due 120 days after publication of the preliminary results.

This notice is published in accordance with section 751(a)(3)(A) and 777(i) of the Act and 19 CFR 351.213(h)(2).

Dated: March 19, 2007.
Stephen J. Claeys,
Deputy Assistant Secretary for Import Administration.

¹ Petitioners are: New World Pasta Company, American Italian Pasta Company, and Dakota Growers Pasta Company.

[FR Doc. E7-5383 Filed 3-22-07; 8:45 am]

BILLING CODE 3510-DS-P